DEPARTMENT OF ENERGY

National Nuclear Security Administration

Defense Programs Advisory Committee Renewal

AGENCY: Office of Defense Programs, National Nuclear Security Administration, Department of Energy.

ACTION: Notice of renewal.

SUMMARY: Pursuant to Federal Advisory Committee Act, and following consultation with the Committee Management Secretariat, General Services Administration, notice is hereby given that the Defense Programs Advisory Committee (DPAC) will be renewed for a two-year period, beginning on February 8, 2021. The DPAC will provide advice and recommendations to the Deputy Administrator for Defense Programs on the stewardship and maintenance of the Nation's nuclear deterrent. Additionally, the renewal of the Committee has been determined to be essential to the conduct of the Department's business and to be in the public interest in connection with the performance of duties imposed upon the Department of Energy by law and agreement. The Committee will continue to operate in accordance with the provisions of the Federal Advisory Committee Act and the rules and regulations in implementation of that Act.

FOR FURTHER INFORMATION CONTACT: Kia Williams, Office of Defense Programs at (202) 586-0852; email: kia.williams@nnsa.doe.gov.

Signing Authority: This document of the Department of Energy was signed on February 8, 2021, by Miles Fernandez, Acting Committee Management Officer, pursuant to delegated authority from the Acting Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 9, 2021.
Treena V. Garrett,
Federal Register Liaison Officer, U.S. Department of Energy.

[FR Doc. 2021-02890 Filed 2-11-21; 8:45 am]

BILLING CODE 6450-01-P